ENVIRONMENTAL PROTECTION AGENCY

[ER-FRL-6621-1]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal activities at (202) 564-7167. An explanation of the ratings assigned to draft environmental impact statements (EISs) was published in FR dated May 18, 2001 (66 FR 27164).

Draft EISs

ERP No. D-AFS-L65384-OR Rating EC2, Drew Creek, Diamond Rock and Divide Cattle Allotments, Issuance of Term Grazing Permits on Livestock Allotments on Tiller Ranger District, Implementation, Umpqua National Forest, Douglas and Jackson Counties, OR.

Summary

EPA expressed environmental concerns for the Clean Water Act 303(d)-listed streams in the three remaining cattle allotments. EPA requested that the final EIS include costs to administer the proposed new grazing allotments and disclose impacts of grazing fewer cattle on aquatic and terrestrial resources as well as including details of how the Forest Service will meet the Aquatic Conservation Strategy to restore and maintain watersheds and aquatics.

ERP No. D-BPA-L08054-OR Rating LO, Condon Wind Project, Execution of One or More Power Purchase and Transmission Services Agreements to Acquire and Transmit up to the Full Electrical Output, NPDES Permits and Right-of-Way Permit for Public Land, Gilliam County, OR.

Summary

EPA commented that the EIS was well written and complete, and satisfactorily addressed EPA's scoping comments regarding the potential for avian mortality. EPA requested additional clarification regarding cumulative effects and potential impacts to power rates.

ERP No. D-COE-K39066-CA Rating EC2, Port of Long Beach Pier J South Terminal, Redevelopment of two existing Marine Container Terminals into One Terminal, COE Section 404, 401 and 10 Permits, City of Long Beach, CA.

Summary

EPA expressed concerns, and requested additional information regarding: coordination of dredge and fill activities in the Port area, water quality impacts, compliance with Clean Water Act Section 404, and air quality impacts.

ERP No. D-GSA-C81032-NY Rating EC2, U.S. Mission to the United Nations (USUN), Demolition of Current USUN and the Construction of a New Facility on the Same Site, Located at 799 United Nations Plaza, New York, NY.

Summary

EPA expressed concerns regarding air quality conformity issues and requested that this issue be resolved in the final EIS.

ERP No. D-USA-J13000-CO Rating EC2, Pueblo Chemical Depot, Destruction of Chemical Munitions and Design, Construction, Operation and Closure of a Facility to Destroy the Mustard Chemical Agent and Munitions

Summary

EPA expressed concerns about the comparative analysis of the four alternatives for destroying chemical weapons at Puebo. More information is also needed on air emissions and hazardous waste generation.

Dated: August 14, 2001.
Joseph C. Montgomery,
Director, NEPA Compliance Division, Office of Federal Activities.

[FR Doc. 01-20820 Filed 8-16-01; 8:45 am]

BILLING CODE 6560-50-P